AGENCY FOR INTERNATIONAL DEVELOPMENT

Privacy Act of 1974; System of Records

AGENCY: Agency for International Development (USAID).

ACTION: Notice of modified Privacy Act system of records.

SUMMARY: The United States Agency for International Development (USAID) proposes to modify a system of records titled, USAID-34, Personal Services Contracts Records, last published March, 3, 2015. USAID is expanding the scope of this system of records with additional applications to better support the unique mission of the Agency. USAID proposes to modify the system location, contact information, purpose, categories of records, record source categories, routine uses, storage, retention, retrieval safeguards and access procedures. Publication of this notice complies with the Privacy Act and the Office of Management and Budget (OMB) Circulars A-108 and A-130 requirement for agencies to publish a notice in the Federal Register whenever the agency modifies a system of records.

DATES: Submit comments on or before 10 June 2022. This modified system of records will be effective 10 June 2022 upon publication. The Routine Uses are effective at the close of the comment period.

ADDRESSES: You may submit comments:

Electronic

• Federal eRulemaking Portal: http://www.regulations.gov. Follow the instructions on the website for submitting comments.

• Email: Privacy@usaid.gov.

Paper

• Fax: 202-916-4946.

• Mail: Chief Privacy Officer, United States Agency for International Development, 1300 Pennsylvania Avenue NW, Washington, DC 20523.

FOR FURTHER INFORMATION CONTACT: Ms. Celida A. Malone, USAID Privacy Program at United States Agency for International Development, Bureau for Management, Office of the Chief Information Officer, Information Assurance Division: ATTN: USAID Privacy Program, 1300 Pennsylvania Avenue NW, Washington, DC 20523, or by phone number at 202-916-4605.

SUPPLEMENTARY INFORMATION: USAID-34: Personal Services Contracts Records will be used by USAID personnel to determine if applicants are eligible and current personal services contractors (PSCs) are compliant with statutory, regulatory and agency requirements for continued employment, participation in USAID programs and access to USAID facilities. Multiple USAID IT systems/applications are used to document, certify and report the individual's eligibility and compliance. The following modifications are made to this system of records: (1) Category of records has been modified to include vaccination records, records checks and (2) routine uses have been added to facilitate interagency sharing.

SYSTEM NAME AND NUMBER:

USAID-34, Personal Services Contracts Records.

SECURITY CLASSIFICATION:

Sensitive But Unclassified.

SYSTEM LOCATION:

United States Agency for International Development (USAID), 1300 Pennsylvania Avenue NW, Washington, DC 20523; AWS East Ashburn, 21155 Smith Switch Road, Ashburn, VA, USA; AWS West Oregon, 73575 Lewis & Clark Drive, Boarman, Oregon 97818; and other USAID offices in the United States and abroad that have personal services contractor hiring authority and their corresponding automated data processing facilities.

SYSTEM MANAGER(S):

Francisco Escobar, 1300 Pennsylvania Ave. NW, USAID Annex: 10.6.IH, Washington, DC 20523. pscpolicymailbox@usaid.gov.

AUTHORITY FOR MAINTENANCE OF THE SYSTEM:

The system was established and is maintained pursuant to the Foreign Assistance Act, Public Law 87-165, as amended; 48 CFR 37. 104, Personal services contracts; 48 CFR Ch. 7, App. D, Direct USAID Contracts with a U.S. Citizen or a U.S. Resident Alien for Personal Services Abroad; Executive Order 14043, Requiring Coronavirus Disease 2019 Vaccination for Federal Employees (Sept. 9, 2021); 5 U.S.C. 30, Departmental Regulations; 44 U.S.C. 3101, Records Management by Agency Heads; and E.O. 9397, as amended.

PURPOSE(S) OF THE SYSTEM:

The records are collected, used, maintained, and disseminated for the purposes of administering personal services contracts, including: Personal services contracts records, pay, and benefits determinations and processing; determining accountability and liability of contract parties; reports of contractor actions; documenting clearances and eligibility to access USAID facilities; ensuring personal and workplace safety; and other records as may be required by federal laws, regulation, or guidance required in connection with the personal services contractor during the contract cycle.

CATEGORIES OF INDIVIDUALS COVERED BY THE SYSTEM:

The system contains records on individuals who are current and/or former personal services contractors with USAID and certain family members. It also contains records on current and former candidates for a personal services contract with USAID.

CATEGORIES OF RECORDS IN THE SYSTEM:

This system consists of records created or compiled for contract actions related to personal services contractors, including personal services contractor files and contract documents. A personal services contractor file includes:

• Proof of Citizenship, including passport, social security number or other national identification number, and Selective Service Registration data.

• Individual's Contact Information, including: Name, employee identification numbers, job titles, home/work addresses, home/work telephone numbers, email addresses, ages, and addresses of family members, next of kin, power of attorney or alternate contact persons.

• Individual's Biographical Information, including: Date of birth, place of birth, education, military service, financial information, photograph of individual, language proficiencies, licenses and certifications.

• Demographic Information: Such as race, gender, sexual orientation, marital status.

• Employment information, such as employment history and address, past supervisor names and phone numbers, salary history, travel availability, training received, assignments, position number, performance evaluations, release forms and out-processing checklists.

• Financial Information, including: Financial institution account number, direct deposit information, and salary computation worksheet.

• System Access/Usage information: IP addresses, passwords, usernames, geotags or geographical metadata.

• Medical Information, such as vaccination records, test results, medical clearances, and insurance information.

• Treatment Records, such as referrals to testing sites, treatment facilities and/or organizations that conduct clinical trials/studies.

• Contracting Documentation, including Unique Entity Identifier (UEI), application, Statement of Work, Qualifications Approval Memoranda, Salary Compensation worksheet, performance evaluations, out-processing/close out form, leave balances, Final Offer Letter, and correspondence.

Note 1: Listed below are other types of records that contain information about Personal Services Contractors, which are not covered by this system of records. Such records are covered by a government-wide system of records, GSA/GOVT-9/SAM, which is managed by the General Services Administration. Records covered by the government-wide SORNs include:

• The information voluntarily provided as part of the process to register to do business with the Federal government.

• Exclusion records to suspend, debar, or otherwise declare individuals ineligible from receiving certain Federal assistance and/or benefits.

RECORD SOURCE CATEGORIES:

Information contained in this system is obtained from:

• The individual to whom the information pertains;

• The individual's former employers;

• Supervisors, contracting officers and contracting officers' representatives in USAID bureaus and missions, Office of Human Resources employees and other Agency officials;

• Those authorized by the individual to furnish information to USAID; and

• Related correspondence from other Federal agencies, organizations, or persons.

ROUTINE USES OF RECORDS MAINTAINED IN THE SYSTEM, INCLUDING CATEGORIES OF USERS AND PURPOSES OF SUCH USES:

In addition to those disclosures generally permitted under 5 U.S.C. 552a(b), all or a portion of the records contained in this system of records may be disclosed outside USAID as a routine use pursuant to 5 U.S.C. 552a(b)(3) as follows:

(1) To the Internal Revenue Service and the Social Security Administration for the purposes of reporting earnings information.

(2) To a Federal Government agency or entity that furnished the record or information for the purposes of permitting that agency or entity to make a decision as to access to or correction of the record or information.

(3) To Federal agencies with which USAID has entered into an agreement to provide services to assist USAID in carrying out its functions under the Foreign Assistance Act of 1961, as amended. Such disclosures would be for the purpose of transmission of information between organizational units of USAID; of providing to the original employing agency information concerning the services of its employee while under the supervision of USAID, including performance evaluations, reports of conduct, awards and commendations, and information normally obtained in the course of personnel administration and employee supervision; or of providing other information directly related to the purposes of the inter-agency agreement as set forth therein, and necessary and relevant to its implementation.

(4) To a prospective employer of a current or former USAID personal services contractor for the purposes of providing the following information to prospective employers: Job descriptions, dates of contract, and reason for termination of contract.

(5) To appropriate agencies, entities, and persons for the purposes of confirming the qualifications of an applicant for the award of a personal services contract.

(6) To the General Services Administration and the Office of Management and Budget for the purposes of periodic reporting required by statute regulations, and/or Executive order. Information provided is in the form of listings, reports, and records of all transportation and travel related transactions, including refunds and adjustments, by the contractor, to enable audits of transportation and travel related charges to the Government.

(7) To a court, magistrate, or other administrative body in the course of presenting evidence, including disclosures to counsel or witnesses in the course of civil discovery, litigation, or settlement negotiations or in connection with criminal proceedings, when USAID is a party to the proceeding or has a significant interest in the proceeding, to the extent that the information is determined to be relevant and necessary.

(8) To the Department of Justice or other appropriate United States Government Agency when the records are arguably relevant to a proceeding in a court or other tribunal in which USAID or a USAID official in his or her official capacity is a party or has an interest, or when the litigation is likely to affect USAID.

(9) In the event of an indication of a violation or potential violation of law, whether civil, criminal or regulatory in nature, and whether arising by statute or particular program pursuant thereto, to the appropriate agency, whether federal, state, local or foreign, charged with the responsibility of investigating or prosecuting such violation or charged with enforcing or implementing the statute, or rule, regulation, or order issued pursuant thereto.

(10) To the Department of State and its posts abroad for the purpose of transmission of information between organizational units of USAID, or for purposes related to the responsibilities of the Department of State in conducting United States foreign policy or protecting United States citizens, such as the assignment of employees to positions abroad, the reporting of accidents abroad, ensuring fiscal accountability in transporting the effects personnel stationed at embassies, evacuation of employees and dependents, and other purposes for which officers and employees of the Department of State have a need for the records in the performance of their duties.

(11) To a foreign government or international agency in response to its request for information to facilitate the conduct of U.S. relations with that government or agency through the issuance of such documents as visas, country clearances, identification cards, drivers' licenses, diplomatic lists, licenses to import or export personal effects, and other official documents and permits routinely required in connection with the official service or travel abroad of the individual and his or her dependents.

(12) To Shipping Contractors limited information is provided, such as delivery address and telephone number, for the purposes of providing shipping services.

(13) To appropriate officials and employees of a federal agency or entity when the information is relevant to a decision concerning the hiring, appointment, or retention of a contractor; the assignment, detail or deployment of a contractor; the issuance, renewal, suspension, or revocation of a security clearance; the execution of a security or suitability investigation; the letting of a contract; or the issuance of a grant or benefit.

(14) To the National Archives and Records Administration for the purposes of records management inspections conducted under the authority of 44 U.S.C. 2904 and 2906.

(15) To appropriate agencies, entities, and persons when (a) USAID suspects or has confirmed that there has been a breach of the system of records, (b) USAID has determined that as a result of the suspected or confirmed breach there is a risk of harm to individuals, USAID (including its information systems, programs, and operations), the Federal Government, or national security; and (c) the disclosure made to such agencies, entities, and persons is reasonably necessary to assist in connection with USAID's efforts to respond to the suspected or confirmed breach or to prevent, minimize, or remedy such harm.

(16) To another Federal Department or Agency or Federal entity, when USAID determines information from this system of records is reasonably necessary to assist the recipient Department or Agency or entity in: (a) Responding to a suspected or confirmed breach; or (b) preventing, minimizing, or remedying the risk of harm to individuals, the recipient agency or entity (including its information systems, programs and operations), the Federal Government, or national security, that might result from a suspected or confirmed breach.

(17) To the Office of Management and Budget in connection with review of private relief legislation, as set forth in OMB Circular No. A-19, at any stage of the legislative coordination and clearance process as set forth in that Circular.

(18) To an agency or organization for the purpose of performing audit or oversight operations as authorized by law, but only such information as is necessary and relevant to such audit or oversight function.

(19) To the Federal Bureau of Investigation, the Department of Homeland Security, the National Counter-Terrorism Center (NCTC), the Terrorist Screening Center (TSC), or other appropriate federal agencies, for the integration and use of such information to protect against terrorism, if that record is about one or more individuals known, or suspected, to be or to have been involved in activities constituting, in preparation for, in aid of, or related to terrorism. Such information may be further disseminated by recipient agencies to Federal, State, local, territorial, tribal, and foreign government authorities, and to support private sector processes as contemplated in Homeland Security Presidential Directive/HSPD-6 and other relevant laws and directives, for terrorist screening, threat-protection, and other homeland security purposes.

(20) To a congressional office from the record of an individual in response to an inquiry from the Congressional office made at the request of that individual.

POLICIES AND PRACTICES FOR STORAGE OF RECORDS:

USAID stores records in this system in electronic format and paper format. Records in paper format are stored in file folders in locked cabinets. Records in electronic format are kept in a user-authenticated and password-protected computerized database system.

POLICIES AND PRACTICES FOR RETRIEVAL OF RECORDS:

Records in this system are retrieved by various combinations of name, identifying number, account number, contract number, phone number, email address, or other unique identifier.

POLICIES AND PRACTICES FOR RETENTION AND DISPOSAL OF RECORDS:

Records are retained and disposed of in accordance with the Federal Acquisition Regulations and/or the National Archives Records Administration's General Records Disposition Schedules, and the agency's approved disposition schedules.

ADMINISTRATIVE, TECHNICAL, AND PHYSICAL SAFEGUARDS:

USAID safeguards records in this system according to applicable rules and policies, including all applicable USAID Automated Directives System (ADS) operational policies. USAID has implemented controls to minimize the risk of compromising the information that is being stored. In general, records are maintained in buildings with restricted access. The required use of password protection identification features and other system protection methods also restrict access. Paper records and Sensitive But Unclassified records are kept in an approved security container at the USAID Washington headquarters, and at the relevant locations where USAID has a program. The electronic records are stored in the Agency Secure Image and Storage Tracking (ASIST) or other document management systems, which are safeguarded in accordance with applicable laws, rules, and policies, including USAID's automated systems security and access policies. Access to the system containing the records in this system is limited to those individuals who have a need to know the information for performance of their official duties and who have appropriate clearances and permissions.

RECORD ACCESS PROCEDURES:

Individuals seeking access to information about themselves contained in this system of records should address inquiries to the Bureau for Management, Office of Management Services, Information and Records Division (M/MS/IRD), USAID Annex—Room 2.4.0C, 1300 Pennsylvania Avenue NW, Washington, DC 20523. The requester may complete and sign a USAID Form 507-1, Certification of Identity Form or submit signed, written requests that should include the individual's full name, current address, telephone number, and this System of Records Notice number. In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The USAID rules for accessing records, contesting contents, and appealing initial agency determinations are contained in 22 CFR part 212 or may be obtained from the program manager or system owner.

NOTIFICATION PROCEDURES:

Individuals seeking to determine if information about themselves is contained in this system of records should address inquiries to the Bureau for Management, Office of Management Services, Information and Records Division (M/MS/IRD), USAID Annex—Room 2.4.0C, 1300 Pennsylvania Avenue NW, Washington, DC 20523. Individuals may complete and sign a USAID Form 507-1, Certification of Identity Form or submit signed, written requests that should include the individual's full name, current address, and telephone number. In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

EXEMPTIONS PROMULGATED FOR THE SYSTEM:

Pursuant to 5 U.S.C. 552a(k)(5) and as specified in 22 CFR 215.14(a)(5) and (c)(5), certain records in this system of records are exempt from the following provisions of the Privacy Act: 5 U.S.C. 552a(c)(3); (d); (e)(1); (e)(4)(G); (H); (I); and (f).

HISTORY:

80 FR 11391, March 3, 2015.

Celida Ann Malone,
Government Privacy Task Lead.

[FR Doc. 2022-10091 Filed 5-10-22; 8:45 am]

BILLING CODE 6116-01-P